DEPARTMENT OF ENERGY

Federal Energy Regulatory Commission

[Docket No. RP09-1086-0000]

Texican N. La. Transport, LLC, Complainant, v. Southern Natural Gas Company, Respondent; Notice of Complaint

October 2, 2009.

Take notice that on September 30, 2009, pursuant to section 206 of the Rules of Practice and Procedure, 18 CFR 385.206 section 5 of the Natural Gas Act (NGA), 15 U.S.C. 717d, Texican N. La. Transport, LLC (Complainant) filed a formal complaint against Southern Natural Gas Company (Respondent) alleging that Respondent violated the NGA, Commission precedent, and Respondent's FERC Gas Tariff by awarding capacity in an open season pursuant to a new methodology that was not timely revealed to bidders, therefore precluding bidders from taking a new approach into account when formulating their bid. Complainant requests, inter alia, that the Commission declare Respondent's capacity awards to be void and order Respondent to award the capacity accordingly.

The Complainant states that a copy of the complaint has been served on the contacts for the Respondent as listed on the Commission list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on October 20, 2009.

Kimberly D. Bose,
Secretary.

[FR Doc. E9-24491 Filed 10-9-09; 8:45 am]

BILLING CODE 6717-01-P